DEPARTMENT OF TRANSPORTATION

ITS Joint Program Office; Intelligent Transportation Systems Program Advisory Committee; Notice of Meeting

AGENCY: Research and Innovative Technology Administration, U.S. Department of Transportation.

ACTION: Notice.

This notice announces, pursuant to Section 10(A)(2) of the Federal Advisory Committee Act (FACA) (Public Law 72-363; 5 U.S.C. app. 2), a meeting of the Intelligent Transportation Systems (ITS) Program Advisory Committee (ITSPAC). The meeting will be held on September 25, 2007, from 1 p.m. to 4 p.m. The meeting will take place at the U.S. Department of Transportation (U.S. DOT), 1200 New Jersey Avenue, SE., Washington DC, in Conference Room #7 on the lobby level of the West Building.

The ITSPAC, established under Section 5305 of Public Law 109-59, Safe, Accountable, Flexible, Efficient Transportation Equity Act: A Legacy for Users, August 10, 2005, and chartered on February 24, 2006, was created to advise the Secretary of Transportation on all matters relating to the study, development and implementation of intelligent transportation systems. Through its sponsor, the ITS Joint Program Office, the ITSPAC will make recommendations to the Secretary regarding the ITS program needs, objectives, plans, approaches, contents, and progress.

The following is a summary of the meeting's agenda: (1) Introductions and Opening Remarks; (2) Ethics Briefing; (3) Federal Advisory Committee Act (FACA), October 6, 1972; (4) ITS PAC Charter; (5) U.S. DOT, Research and Innovative Technology Administration and ITS Joint Program Office Organization and Functions; (6) ITS Management Council and ITS Strategic Planning Group Organization and Functions; (7) ITS Program Major Initiatives and Funding; (8) General Discussion; (9) Next Steps; (10) Public Comments; and (11) Closing Remarks.

Since access to the U.S. DOT building is controlled, all persons who plan to attend the meeting must notify Ms. Marcia Pincus, the Committee Management Officer, at (202) 366-9230 prior to September 24, 2007. Individuals attending the meeting must report to the 1200 New Jersey Avenue entrance of the U.S. DOT Building for admission. Attendance is open to the public, but limited space is available. With the approval of Ms. Shelley Row, the Committee Designated Federal Official, members of the public may present oral statements at the meeting. Non-committee members wishing to present oral statements or obtain information should contact Ms. Pincus.

Questions about the agenda or written comments may be submitted by U.S. Mail to: U.S. Department of Transportation, Research and Innovative Technology Administration, ITS Joint Program Office, Attention: Marcia Pincus, Room E33-401, 1200 New Jersey Avenue, SE., Washington DC 20590 or faxed to (202) 493-2027. The ITS Joint Program Office requests that written comments be submitted prior to the meeting.

Persons with a disability requiring special services, such as an interpreter for the hearing impaired, should contact Ms. Pincus at least seven calendar days prior to the meeting.

Notice of this meeting is provided in accordance with the FACA and the General Service Administration regulations (41 CFR Part 102-3) covering management of Federal advisory committees.

Issued in Washington, DC, on the 30th day of August, 2007.
Shelley Row,
Director, ITS Joint Program Office.

[FR Doc. E7-17591 Filed 9-5-07; 8:45 am]

BILLING CODE 4910-HY-P